DEPARTMENT OF COMMERCE

Foreign-Trade Zones Board

[S-121-2021]

Foreign-Trade Zone 18—San Jose, California; Application for Expansion of Subzone 18G; Tesla, Inc., Lathrop, California

An application has been submitted to the Foreign-Trade Zones (FTZ) Board by the City of San Jose, grantee of FTZ 18, requesting an expansion of Subzone 18G on behalf of Tesla, Inc., in Lathrop, California. The application was submitted pursuant to the provisions of the Foreign-Trade Zones Act, as amended (19 U.S.C. 81a-81u), and the regulations of the FTZ Board (15 CFR part 400). It was formally docketed on August 10, 2021.

Subzone 18G currently consists of the following sites: Site 1 (25.28 acres)—3500 Deer Creek Road, Palo Alto; Site 2 (265.88 acres)—45500 Fremont Boulevard, Fremont; Site 3 (10 acres)—2875 Prune Avenue, Fremont; Site 4 (39.21 acres)—901 and 1055 Page Avenue and 47700 Kato Road, Fremont; Site 5 (15.79)—47400 Kato Road, Fremont; Site 6 (31.91 acres)—6800 and 6900 Dumbarton Circle, Fremont; Site 7 (0.67 acres)—3777 and 3785 Spinnaker Court, Fremont; Site 8 (14.93 acres)—31353 Huntwood Avenue, Hayward; Site 11 (10.60 acres)—1710 Little Orchard Street, San Jose; Site 12 (18.8 acres)—800 Atlantis Street, Livermore; Site 13 (32.85 acres)—201 Discovery Drive, Livermore; Site 14 (7.76 acres)—1050 77th Avenue, Oakland; and, Site 15 (2.181 acres)—55 Admiral Robert Toney Way, Oakland.

The applicant is now requesting authority to expand the subzone to include the following additional sites in Lathrop, San Joaquin County: Site 16 (29.11 acres)—18260 South Harlan Road; Site 17 (12.5 acres)—18250 Murphy Parkway; Site 18 (48.64 acres)—17100 Murphy Parkway; Site 19 (23.07 acres)—701 D'Arcy Parkway; Site 20 (28.02 acres)—700 D'Arcy Parkway; Site 21 (13.2 acres)—401/501 Tesla Drive; and, Site 22 (4.86 acres)—500 Louise Avenue. The expanded subzone would be subject to the existing activation limit of FTZ 18.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is September 27, 2021. Rebuttal comments in response to material submitted during the foregoing period may be submitted during the subsequent 15-day period to October 12, 2021.

A copy of the application will be available for public inspection in the “Reading Room” section of the FTZ Board's website, which is accessible via www.trade.gov/ftz.

For further information, contact Qahira El-Amin at Qahira.El-Amin@trade.gov.

Dated: August 10, 2021.
Andrew McGilvray,
Executive Secretary.

[FR Doc. 2021-17466 Filed 8-13-21; 8:45 am]

BILLING CODE 3510-DS-P